DEPARTMENT OF THE TREASURY

Agency Information Collection Activities; Submission for OMB Review; Comment Request; Multiple Treasury Departmental Offices Information Collection Requests

AGENCY: Departmental Offices, Department of the Treasury.

ACTION: Notice, request for comment.

SUMMARY: The Department of the Treasury will submit the following information collection requests to the Office of Management and Budget (OMB) for review and clearance in accordance with the Paperwork Reduction Act of 1995, on or after the date of publication of this notice. The public is invited to submit comments on these requests.

DATES: Comments must be received on or before April 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Departmental Offices (DO)

1. Title: Small Business Lending Fund Quarterly Supplemental Report.

OMB Control Number: 1505-0228.

Type of Review: Extension of a currently approved collection.

Description: Banks participating in the Small Business Lending Fund program are required to submit a Supplemental Report each quarter. The Supplemental Report is used to determine the bank's small business lending baseline and allows Treasury to assess the change in the small business lending for the previous quarter.

Form Number: TD F 102.3A and TD F 102.4.

Affected Public: Businesses and other for-profits.

Estimated Number of Respondents: 56.

Frequency of Response: Quarterly.

Estimated Total Number of Annual Responses: 224.

Estimated Time per Response: 3.5 hours.

Estimated Total Annual Burden Hours: 784.

2. Title: Determinations Regarding Certain Nonbank Financial Companies.

OMB Control Number: 1505-0244.

Type of Review: Extension without change of a current OMB approval.

Description: Section 113 of the Dodd-Frank Wall Street Reform and Consumer Protection Act (the “DFA”) (Pub. L. 111-203) provides the Financial Stability Oversight Council (the “Council”) the authority to require that a nonbank financial company be supervised by the Board of Governors of the Federal Reserve System and be subject to prudential standards in accordance with Title I of the DFA if the Council determines that material financial distress at the firm, or the nature, scope, size, scale, concentration, interconnectedness, or mix of the activities of the firm, could pose a threat to the financial stability of the United States. The information collected in § 1310.20 from state and federal regulatory agencies and from nonbank financial companies will be used generally by the Council to carry out its duties under Title I of the Dodd-Frank Act. The collections of information in §§ 1310.21, 1310.22 and 1310.23 provide an opportunity for a nonbank financial company to request a hearing or submit written materials to the Council concerning whether, in the company's view, material financial distress at the company, or the nature, scope, size, scale, concentration, interconnectedness, or mix of the activities of the company, could pose a threat to the financial stability of the United States.

Form Number: None.

Affected Public: Businesses or other for-profits.

Estimated Number of Respondents: 1.

Frequency of Response: On occasion.

Estimated Total Number of Annual Responses: 1.

Estimated Time per Response: 20 hours.

Estimated Total Annual Burden Hours: 20 hours.

3. Title: Equal Employment Opportunity Compliant Forms.

OMB Control Number: 1505-0262.

Type of Review: Extension of a currently approved collection.

Description: Title 29 of the United States Code of Federal Regulations (CFR) part 1614, directs agencies to maintain a continuing program to promote equal opportunity and to identify and eliminate discriminatory practices and policies. The Department of the Treasury (Department) is thus required to process complaints of employment discrimination from Department employees, former employees and applicants for jobs with the Department who claim discrimination based on their membership in a protected class, such as, race, color, religion, sex (including pregnancy, sexual orientation and gender identity), national origin, age (over 40), disability, genetic information, or retaliation for engaging in prior protected activity. Claims of discrimination based on parental status are processed as established by Executive Order 11478 (as amended by Executive Order 13152). Federal agencies must offer pre-complaint “informal” counseling and/or Alternative Dispute Resolution (ADR) to these “aggrieved individuals” (the aggrieved), claiming discrimination by officials of the Department. If the complaint is not resolved during the informal process, agencies must issue a Notice of Right to File a Complaint of Discrimination form to the aggrieved. This information is being collected for the purpose of processing informal and formal complaints of employment discrimination against the Department on the bases of race, color, religion, sex (including pregnancy, sexual orientation and gender identity), national origin, age (over 40), disability, genetic information, parental status, or retaliation. Pursuant to 29 CFR 1614.105, the aggrieved must participate in pre-complaint counseling to try to informally resolve his/her complaint prior to filing a complaint of discrimination. Information provided on the pre-complaint forms may be used by the aggrieved to assist in determining if she or he would like to file a formal complaint against the Department. The information captured on these forms will be reviewed by the staff of the Department's Office of Civil Rights and Diversity to frame the claims for investigation and determine whether the claims are within the parameters established in 29 CFR part 1614. In addition, data from the complaint forms is collected and aggregated for the purpose of discerning whether any Department of the Treasury policies, practices or procedures may be curtailing the equal employment opportunities of any protected group.

Form Number: TD F 62-03.1, TD F 62-03.2, TD F 62-03.4, TD F 62-03.6, TD 62-03.7, TD 62-03.8, TD F 62-03.9, TD F 62-03.10, TD F 62-03.11, TD F 63-03.5.

Affected Public: Individuals and Households.

Estimated Number of Respondents: 1 to 20.

Frequency of Response: On occasion.

Estimated Total Number of Annual Responses: 90.

Estimated Time per Response: 3 minutes to 1 hour.

Estimated Total Annual Burden Hours: 47.

Authority: 44 U.S.C. 3501 et seq.

Molly Stasko,
Treasury PRA Clearance Officer.

[FR Doc. 2022-06605 Filed 3-28-22; 8:45 am]

BILLING CODE 4810-AK-P